FEDERAL COMMUNICATIONS COMMISSION

47 CFR Part 73

[DA 04-2500; MB Docket No. 04-318, RM-11040]

Radio Broadcasting Services; Culebra, PR

AGENCY: Federal Communications Commission.

ACTION: Proposed rule.

SUMMARY: The Audio Division requests comments on a petition filed by La Gigante Radio Corporation proposing the substitution of Channel 291A for Channel 254A at Culebra, Puerto Rico, as the community's first local aural transmission service. To accommodate the allotment, petitioner also proposes the deletion of vacant Channel 291B at Vieques, Puerto Rico. Channel 291A can be allotted at Culebra in compliance with the Commission's minimum distance separation requirements with a site restriction of 2.2 kilometers (1.4 miles) northwest at petitioner's presently authorized STA site. The coordinates for Channel 291A at Culebra are 18-19-19 North Latitude and 65-17-59 West Longitude. In accordance with Section 1.420(g) of the Commission's Rules, we will not accept competing expressions of interest for the use of Channel 291A at Culebra, Puerto Rico.

DATES: Comments must be filed on or before October 4, 2004, reply comments on or before October 19, 2004.

ADDRESSES: Federal Communications Commission, Washington, DC 20554. In addition to filing comments with the FCC, interested parties should serve the petitioner, or its counsel or consultant, as follows: Scott C. Cinnamon, Esq., Law Offices of Scott C. Cinnamon, PLLC, 1090 Vermont Ave., NW., Suite 800, #144, Washington, DC 2005 (Counsel for Petitioner).

FOR FURTHER INFORMATION CONTACT: Sharon P. McDonald, Media Bureau, (202) 418-2180.

SUPPLEMENTARY INFORMATION: This is a synopsis of the Commission's Notice of Proposed Rule Making, MB Docket No. 04-318, adopted August 10, 2004, and released August 12, 2004. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Puerto Rico, is amended by adding Channel 291A and by removing Channel 254A at Culebra; and by removing Vieques, Channel 291B.

Federal Communications Commission.
John A. Karousos,
Assistant Chief, Audio Division, Media Bureau.

[FR Doc. 04-19143 Filed 8-19-04; 8:45 am]

BILLING CODE 6712-01-P